DEPARTMENT OF HOMELAND SECURITY

Federal Emergency Management Agency

44 CFR Part 67

[Docket No. FEMA-D-7626]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. *Elevation in feet (NGVD) • Elevation in feet (NAVD): Existing | # Depth in feet above ground. *Elevation in feet (NGVD) • Elevation in feet (NAVD): Modified | Communities affected
NORTH CAROLINA
Alamance County
Back Creek | At the confluence with West Black Creek and Michaels Branch | None | •576 | Alamance County (Unincorporated Areas), City of Burlington, Town of Gibsonville.
| Approximately 150 feet upstream of State Route 100 | None | •664 |
Back Creek Tributary 2 | At the confluence with Back Creek | None | •589 | Alamance County (Unincorporated Areas), Town of Gibsonville.
| Approximately 0.7 mile upstream of the Alamance/Guilford County boundary | None | •667 |
Beaver Creek | At the confluence with Lake Macintosh | None | •557 | Alamance County (Unincorporated Areas).
| Approximately 1,000 feet upstream of the Alamance/Guilford County boundary | None | •572 |
Big Alamance Creek | Approximately 500 feet upstream of the confluence with Haw River | •479 | •480 | Alamance County (Unincorporated Areas), Village of Alamance, Cities of Burlington and Graham, and Town of Swepsonville.
| Approximately 1.6 miles of upstream the confluence with Gunn Creek | •507 | •506 |
Big Branch | At the confluence with Haw River | None | •410 | Alamance County (Unincorporated Areas).
| Approximately 0.7 mile upstream from Mandale Road | None | •465 |
Boyds Creek | Approximately 0.3 mile downstream of Luckstone Road | None | •570 | Alamance County (Unincorporated Areas), Town of Green Level.
| Approximately 1.1 miles upstream of Sandy Cross Road | None | •653 |
Boyds Creek Tributary 1 | Approximately 350 feet upstream of the confluence with Boyds Creek | •511 | •512 | Alamance County (Unincorporated Areas), Town of Haw River.
| Approximately 0.9 mile upstream of Lakeview Drive | None | •677 |
Boyds Creek Tributary 2 | At the confluence with Boyds Creek | None | •586 | Alamance County (Unincorporated Areas).
| Approximately 0.8 mile upstream of Sandy Cross Road | None | •636 |
Burlington Reservoir | Entire shoreline within community | None | •579 | Alamance County (Unincorporated Areas).
Buttermilk Creek | Approximately 1,000 feet upstream of the confluence with Stony Creek | None | •555 | Alamance County (Unincorporated Areas).
| Approximately 1.0 mile upstream of Reid Road | None | •715 |
Buttermilk Creek Tributary 1 | At the confluence with Buttermilk Creek | None | •600 | Alamance County (Unincorporated Areas).
| Approximately 1.1 miles upstream of the confluence with Buttermilk Creek | None | •713 |
Buttermilk Creek Tributary 2 | At the confluence of Buttermilk Creek | None | •620 | Alamance County (Unincorporated Areas).
| Approximately 450 feet upstream of the confluence with Buttermilk Creek Tributary 3 | None | •708 |
Buttermilk Creek Tributary 3 | At the confluence with Buttermilk Creek Tributary 2 | None | •690 | Alamance County (Unincorporated Areas).
| Approximately 1,500 feet upstream of the confluence with Buttermilk Creek Tributary 2 | None | •709 |
Cane Creek (North) | Approximately 850 feet upstream of the confluence with Haw River | None | •429 | Alamance County (Unincorporated Areas).
| At the Alamance/Orange County boundary | None | •429 |
Cane Creek (South) | Approximately 210 feet upstream of Bethel South Fork Road | None | •501 | Alamance County (Unincorporated Areas).
| Approximately 1.5 miles upstream of the confluence with Well Creek | None | 596 |
Cane Creek (South) Tributary 1 | At the confluence with Cane Creek (South) Tributary 1 | None | •535 | Alamance County (Unincorporated Areas).
| Approximately 1.3 miles upstream of Old Dam Road | None | •608 |
Cane Creek (South) Tributary 2 | At the confluence with Cane Creek (South) | None | •585 | Alamance County (Unincorporated Areas).
| Approximately 0.7 mile upstream of Old Dam Road | None | •595 |
Cane Creek (South) Tributary 3 | At the confluence with Cane Creek (South) | None | •558 | Alamance County (Unincorporated Areas).
| Approximately 2.3 miles upstream of the confluence with Cane Creek (South) | None | •599 |
Cane Creek (North) Tributary 4 | At the confluence with Cane Creek (North) | None | •429 | Alamance County (Unincorporated Areas).
| Approximately 3,000 feet upstream from the confluence with Cane Creek (North) | None | •455 |
Coblebrook Creek | At the confluence with Little Alamance Creek | •607 | •606 | City of Burlington.
| Approximately 250 feet upstream of Edgewood Avenue | None | •688 |
Deep Creek | Approximately 1,400 feet upstream of the confluence with Stony Creek | None | •543 | Alamance County (Unincorporated Areas).
| Approximately 2,800 feet upstream of Jefferies Cross Road | None | •698 |
Dry Creek 2 | Approximately 320 feet upstream of Power Line Road | None | •630 | Alamance County (Unincorporated Areas), Town of Elon.
| Approximately 0.7 mile upstream of Power Line Road | None | •656 |
East Back Creek | Approximately 1,500 feet downstream of State Route 119 | None | •533 | Alamance County (Unincorporated Areas), City of Mebane.
| At the Alamance/Orange County boundary | None | •559 |
Eastside Creek | Approximately 400 feet upstream of East Stage Coach Road | None | •612 | Alamance County (Unincorporated Areas), City of Mebane.
| Approximately 350 feet upstream of the Alamance/Orange County boundary | None | •655 |
Eastside Creek Tributary | At the confluence with Eastside Creek | None | •617 | City of Mebane.
| Approximately 530 feet upstream of the confluence with Eastside Creek | None | •621 |
Foust Creek | At the confluence with Cane Creek (South) | None | •505 | Alamance County (Unincorporated Areas).
| Approximately 0.7 mile upstream from Snow Camp Road | None | •575 |
Greenbriar Creek | At the Alamance/Chatham County boundary | None | •633 | Alamance County (Unincorporated Areas).
| Approximately 1.1 miles upstream of Staley Store Road | None | •667 |
Gunn Creek | Approximately 150 feet downstream of Millright Way | None | •638 | Town of Elon.
| Approximately 0.8 mile upstream of Millright Way | None | •684 |
Haw Creek Tributary 1 | Approximately 1,350 feet upstream of the confluence with Haw Creek | None | •506 | Alamance County (Unincorporated Areas), City of Mebane.
| Approximately 1.5 miles upstream of Turner Road | None | •575 |
Haw River Tributary 2 | Approximately 1,400 feet upstream of the confluence with Haw River | None | •435 | Alamance County (Unincorporated Areas).
| Approximately 1.2 miles upstream from the confluence with Haw River | None | •534 |
Haw River Tributary 3 | Approximately 1,600 feet upstream of the confluence with Haw River | None | •437 | Alamance County (Unincorporated Areas).
| Approximately 0.5 mile upstream of Austin Quarter Road | None | •570 |
Haw River Tributary 4 | Approximately 0.5 mile upstream of the confluence with Haw River | None | •439 | Alamance County (Unincorporated Areas).
| Approximately 0.9 mile upstream of Saxaphaw Bethlehem Church Road | None | •623 |
Haw River Tributary 5 | At the confluence with Haw River Tributary 4 | None | •472 | Alamance County (Unincorporated Areas).
| Approximately 400 feet upstream from John Thompson Road | None | •533 |
Haw River Tributary 6 | Approximately 1,300 feet upstream of the confluence with Haw River | None | •460 | Alamance County (Unincorporated Areas).
| Approximately 0.6 mile upstream of NC Highway 87 | None | •539 |
Haw River Tributary 8 | At the upstream side of Greenwood Drive | None | •558 | Alamance County (Unincorporated Areas).
| Approximately 2,000 feet upstream of Atwater Road | None | •649 |
Haw River Tributary 10 | At the confluence with Unnamed Tributary to Haw River at Glencoe | None | •573 | Alamance County (Unincorporated Areas).
| Approximately 1.3 miles upstream of Mansfield Road | None | •670 |
Haw River Tributary 11 | Approximately 750 feet upstream of the confluence with Haw River | None | •589 | Alamance County (Unincorporated Areas).
| Approximately 1,300 feet upstream of Lonzie Foster Trail | None | 710 |
Haw River Tributary 12 | At the confluence with Haw River Tributary 11 | None | •609 | Alamance County (Unincorporated Areas).
| Approximately 600 feet upstream of Altamahaw Race Track Road | None | 742 |
Haw River Tributary 13 | At the upstream side of Altamahaw Union Ridge Road | None | •608 | Alamance County (Unincorporated Areas).
| Approximately 0.6 mile upstream of Mack's Chapel Road | None | •689
Haw River Tributary 14 | Approximately 0.4 mile upstream with the confluence of Haw River | None | •621 | Alamance County (Unincorporated Areas).
| Approximately 0.6 mile upstream of Gilliam Church Road | None | •696
Haw River Tributary 15 | At the Alamance/Guilford County boundary | None | •664 | Alamance County (Unincorporated Areas).
| Approximately 0.6 mile upstream of Lee Lewis Road | None | •712
Hughes Mill Creek | At the confluence with Jordan Creek | None | •603 | Alamance County (Unincorporated Areas).
| Approximately 150 feet above the Alamance/Caswell County boundary | None | 618
Jones Creek | At the confluence with Buttermilk Creek | None | •608 | Alamance County (Unincorporated Areas).
| Approximately 1,850 feet upstream of Altamahaw Race Track Road | None | •684
Jordan Creek | Approximately 1,500 feet upstream of the confluence with Stony Creek | None | •552 | Alamance County (Unincorporated Areas).
| Approximately 1.3 miles upstream of Hughes Mill Road | None | •635
Laughin Creek | At the confluence with Buttermilk Creek | None | •589 | Alamance County (Unincorporated Areas).
| Approximately 300 feet downstream of Alamance/Caswell County boundary | None | •739
Laughin Creek Tributary 1 | At the confluence with Laughin Creek | None | •609 | Alamance County (Unincorporated Areas).
| Approximately 1.0 mile upstream of the confluence with Laughin Creek | None | •680
Little Alamance Creek | Approximately 1.7 miles upstream of Big Alamance Creek | •489 | •490 | Alamance County (Unincorporated Areas), City of Burlington.
| Approximately 0.9 mile upstream of Interstates 40 and 85 | •572 | •571
Little Alamance Creek Tributary | At the confluence with Little Alamance Creek | •564 | •565 | City of Burlington.
| Approximately 350 feet upstream of Maple Avenue | None | •613
Little Creek | At the confluence with Sinking Quarter Creek | None | •542 | Alamance County (Unincorporated Areas).
| Approximately 0.9 mile upstream of the confluence with Little Creek Tributary 2 | None | •608
Little Creek Tributary 1 | At the confluence with Little Creek | None | •551 | Alamance County (Unincorporated Areas).
| Approximately 0.7 mile upstream of the confluence with Little Creek | None | •591
Little Creek Tributary 2 | At the confluence with Little Creek | None | •570 | Alamance County (Unincorporated Areas).
| Approximately 0.5 mile upstream of Vernon Lane | None | •651
Long Branch | At the confluence with Marys Creek | None | •461 | Alamance County (Unincorporated Areas).
| Approximately 0.9 mile upstream of Stockard Road | None | •511
Marys Creek | Approximately 1,400 feet upstream of the confluence with Haw River | None | •436 | Alamance County (Unincorporated Areas).
| Approximately 0.7 mile upstream from Snow Camp Road | None | •578
McAdams Creek Tributary | Approximately 500 feet upstream of the confluence with McAdams Creek | None | •588 | City of Mebane.
| Approximately 0.6 mile upstream of 3rd Street | None | •645
Meadow Creek | Approximately 110 feet upstream of NC Highway 54 | None | •580 | Alamance County (Unincorporated Areas).
| Approximately 1.2 miles upstream of NC Highway 54 | •574 | •605
Michaels Branch | At the confluence with West Back Creek and Back Creek | None | •576 | Alamance County (Unincorporated Areas), Town of Burlington, Town of Elon.
| Approximately 290 feet upstream of Long Street | None | •692
Michaels Branch Tributary | At the confluence with Michaels Branch | None | •633 | Town of Elon, Town of Gibsonville.
| Approximately 350 feet upstream of Driftwood Drive | None | •665
Mine Creek | Approximately 400 feet upstream of the confluence with Stony Creek | None | •549 | Alamance County (Unincorporated Areas).
| Approximately 2.5 miles upstream of Mine Creek Road | None | •658
Motes Creek | Approximately 1,000 feet upstream of the confluence with Haw River | None | •439 | Alamance County (Unincorporated Areas).
| Approximately 100 feet upstream of NC Highway 54 | None | •569
Motes Creek Tributary | At the confluence with Motes Creek | None | •517 | Alamance County (Unincorporated Areas).
| Approximately 0.6 mile upstream from Mineral Springs Road | None | •557
North Prong Creek | At the confluence with North Prong Rocky River | None | • 658 | Alamance County (Unincorporated Areas).
| At the Alamance/Randolph County boundary | None | • 686
North Prong Rocky River | Approximately 800 feet downstream of the Alamance/Chatham County boundary | None | • 647 | Alamance County (Unincorporated Areas).
| At the Alamance/Randolph County boundary | None | • 676
North Prong Stinking Quarter Creek | At the confluence with Stinking Quarter, Creek | None | • 508 | Alamance County (Unincorporated Areas), Village of Alamance.
| At the Alamance/Guilford County boundary | None | • 589
Owens Creek | At the confluence with Jordan Creek | None | • 563 | Alamance County (Unincorporated Areas).
| Approximately 1.8 miles upstream of Blanchard Road | None | • 647
Parks Creek | Approximately 700 feet upstream of the confluence with Reedy Fork | None | • 612 | Alamance County (Unincorporated Areas).
| Approximately 0.7 mile upstream of Shepherd Road | None | • 645
Pine Hill Branch | At the confluence with South Fork | None | • 475 | Alamance County (Unincorporated Areas).
| Approximately 1,150 feet upstream from Clark Road | None | • 547
Pine Hill Branch Tributary | At the confluence with Pine Hill Branch | None | • 502 | Alamance County (Unincorporated Areas).
| Approximately 320 feet upstream from Quackenbush Road | None | • 522
Poppaw Creek | At the confluence with Stinking Quarter Creek | None | • 543 | Alamance County (Unincorporated Areas).
| Approximately 3.7 miles downstream of Foster Store Road | None | • 649
Poppaw Creek Tributary 1 | At the confluence with Poppaw Creek | None | • 611 | Alamance County (Unincorporated Areas).
| Approximately 100 feet upstream of Timber Ridge Lake Road | None | • 647
Poppaw Creek Tributary 2 | At the confluence with Poppaw Creek | None | • 613 | Alamance County (Unincorporated Areas).
| Approximately 0.9 mile upstream of the confluence with Poppaw Creek | None | • 660
Quaker Creek | Approximately 0.7 mile downstream of Dickey Mill Road | None | • 534 | Alamance County (Unincorporated Areas).
| Approximately 2.4 miles upstream of the confluence with Quaker Creek Tributary 2 | None | • 696
Quaker Creek Tributary 1 | At the confluence with Quaker Creek | None | • 594 | Alamance County (Unincorporated Areas).
| Approximately 0.5 mile upstream of Cates Loop Road | None | • 676
Quaker Creek Tributary 2 | At the confluence with Quaker Creek | None | • 611 | Alamance County (Unincorporated Areas).
| Approximately 0.9 mile upstream of Tangle Ridge Trail | None | • 671
Reedy Branch | At the confluence with Cane Creek (South) | None | • 509 | Alamance County (Unincorporated Areas).
| Approximately 0.4 mile upstream of Clark Road | None | • 606
Rock Creek | Upstream side of Mill Road | None | • 538 | Alamance County (Unincorporated Areas).
| Approximately 1.2 miles upstream of Beale Road | None | • 637
Rock Creek Tributary | At the confluence with Rock Creek | None | • 561 | Alamance County (Unincorporated Areas).
| Approximately 1.3 miles upstream of NC Highway 49 | None | • 594
Scrub Creek | Approximately 1,250 feet upstream of Mebane Rogers Road | None | • 534 | Alamance County (Unincorporated Areas).
| Approximately 1,950 feet upstream of Dickey Mill Road | None | • 595
Servis Creek | Approximately 1,600 feet downstream, of Burch Bridge Road | None | • 612 | Alamance County (Unincorporated Areas) City of Burlington.
| Approximately 500 feet upstream of Cadiz Street | None | • 665
South Fork | Approximately 0.4 mile upstream of the confluence with Cane Creek (South) | None | • 449 | Alamance County (Unincorporated Areas).
| At the Alamance/Chatham County boundary | None | • 525
Stagg Creek | Approximately 0.8 mile downstream of State Route 119 | None | • 536 | Alamance County (Unincorporated Areas).
| At the Alamance/Orange County boundary | None | • 605
Stagg Creek Tributary 1 | At the confluence with Stagg Creek | None | • 580 | Alamance County (Unincorporated Areas).
| Approximately 500 feet upstream of Corbett Road | None | • 734
Stagg Creek Tributary 2 | At the confluence with Stagg Creek | None | • 604 | Alamance County (Unincorporated Areas).
| At the Alamance/Orange County boundary | None | • 608
Staley Creek | Approximately 100 feet upstream of, Rauhut Street | None | • 595 | Alamance County (Unincorporated Areas) City of Burlington.
| Approximately 200 feet upstream of Chestnut Street | None | • 664
Steelhouse Branch | Approximately 350 feet upstream of the confluence with Town Branch | •494 | •493 | City of Graham.
| Approximately 650 feet upstream of East Crescent Square Drive | None | •572
Stinking Quarter Creek | Approximately 350 feet upstream of the confluence with Rock Creek | None | •496 | Alamance County (Unincorporated Areas).
| Approximately 100 feet upstream of the Alamance/Guilford County boundary | None | •556
Stony Creek | At the confluence with Burlington Reservoir | None | •579 | Alamance County (Unincorporated Areas).
| At the Alamance/Orange County boundary | None | •596
Tickle Creek | Approximately 200 feet downstream of the Alamance/Guilford County boundary | None | •644 | Alamance County (Unincorporated Areas).
| At the Alamance/Guilford County boundary | None | •645
Toms Creek | At the confluence with Burlington Reservoir | None | •579 | Alamance County (Unincorporated Areas).
| At the Alamance/Caswell County boundary | None | •599
Travis Creek | Approximately 1,000 feet upstream of the confluence with Tributary A to Travis Creek | None | •618 | Town of Gibsonville.
| At the Alamance/Guilford County boundary | None | •618
Travis Creek Tributary 2 | Approximately 700 feet upstream of the confluence with Travis Creek | None | •596 | Alamance County (Unincorporated Areas), Town of Elon, Town of Gibsonville.
| Approximately 250 feet upstream of Burlington Avenue | None | •678
Tributary A to Haw Creek | Approximately 75 feet upstream of Jones Drive | None | •551 | Alamance County (Unincorporated Areas).
| At the Alamance/Orange County boundary | None | •572
Tributary A to Travis Creek | Approximately 500 feet downstream of the Alamance/Guilford County boundary | None | •623 | Alamance County (Unincorporated Areas).
| At the Alamance/Guilford County boundary | None | •623
Tributary to Travis Creek | Approximately 250 feet downstream of the Alamance/Guilford County boundary | None | •629 | Town of Gibsonville.
| At the Alamance/Guilford County boundary | None | •630
Unnamed Tributary to Haw River at Glencoe | Approximately 30 feet upstream of Greenwood Drive | None | •578 | Alamance County (Unincorporated Areas).
| Approximately 1.6 miles upstream of Isley School Road | None | •665
Varnals Creek | Approximately 0.4 mile upstream of Bass Mountain Road | None | •554 | Alamance County (Unincorporated Areas).
| Approximately 0.9 mile upstream of Bass Mountain Road | None | •571
Varnals Creek Tributary | Approximately 275 feet upstream of the confluence with Varnals Creek | None | •481 | Alamance County (Unincorporated Areas).
| Approximately 1.9 miles upstream of the confluence with Varnals Creek | None | •553
Well Creek | At the confluence with Cane Creek (South) | None | •573 | Alamance County (Unincorporated Areas).
| Approximately 0.6 mile upstream of Longest Acres Road | None | •662
Whittie Creek | At the confluence with Buttermilk Creek | None | •568 | Alamance County (Unincorporated Areas).
| Approximately 0.6 mile upstream of Baker Bell Farm Road | None | •655
Willowbrook Creek | At the confluence with Little Alamance Creek | •576 | •575 | City of Burlington.
| Approximately 50 feet upstream of Allbright Avenue | None | •672
Alamance County (Unincorporated Areas)
Maps available for inspection at the Alamance County Planning Department, Annex Building, 124 West Elm Street, Graham, North Carolina.
Send comments to Mr. David Cheek, Alamance County Manager, 124 West Elm Street, Graham, North Carolina 27253.
Village of Alamance
Maps available for inspection at the Alamance Village Hall, 2879 Rob Shepard Drive, Alamance, North Carolina.
Send comments to The Honorable Cathera Bundren, Mayor of the Village of Alamance, 2879 Rob Shepard Drive, Alamance, North Carolina 27215.
City of Burlington
Maps available for inspection at the Burlington City Hall, Engineering Department, 425 South Lexington Avenue, Burlington, North Carolina.
Send comments to Mr. Harold Owen, Burlington City Manager, P.O. Box 1358, Burlington, North Carolina 27216.
Town of Elon
Maps available for inspection at the Elon Town Hall, 104 South Williamson Drive, Elon, North Carolina.
Send comments to Mr. Michael Dula, Elon Town Manager, P.O. Box 595, Elon, North Carolina 27244.
Town of Gibsonville
Maps available for inspection at the Town of Gibsonville Planning Department, 129 West Main Street, Gibsonville, North Carolina.
Send comments to Mr. Deleno Flynn, Gibsonville Town Manager, 129 West Main Street, Gibsonville, North Carolina 27249.
City of Graham
Maps available for inspection at the Graham City Hall, Planning Department, 201 South Main Street, Graham, North Carolina.
Send comments to Mr. Chris Rollins, Graham City Manager, P.O. Drawer 357, Graham, North Carolina 27253.
Town of Green Level
Maps available for inspection at the Green Level Town Hall, 2510 Green Level Church Road, Green Level, North Carolina.
Send comments to The Honorable Algene Tarpley, Mayor of the Town of Green Level, P.O. Box 729, Haw River, North Carolina 27258.
Town of Haw River
Maps available for inspection at the Haw River Town Hall, 403 East Main Street, Haw River, North Carolina.
Send comments to The Honorable Buddy Boggs, Mayor of the Town of Haw River, P.O. Box 103, Haw River, North Carolina 27258.
City of Mebane
Maps available for inspection at the Mebane City Hall, 106 East Washington Street, Mebane, North Carolina.
Send comments to The Honorable Glendel Stephenson, Mayor of the City of Mebane, 106 East Washington Street, Mebane, North Carolina 27302.
Town of Swepsonville
Maps available for inspection at the Alamance County Planning Department, Annex Building, 124 West Elm Street, Graham, North Carolina.
Send comments to The Honorable Raymond Herring, Mayor of the Town of Swepsonville, P.O. Box 282, Swepsonville, North Carolina 27359.
NORTH CAROLINA
Columbus County
Bay Branch | At the confluence with Big Branch | None | •37 | Columbus County (Unincorporated Areas).
| Approximately 1.1 miles upstream of Big Branch Road | None | •53
Beaverdam Creek | At the confluence with Weymans Creek | None | •22 | Columbus County (Unincorporated Areas), Town of Sandyfield.
| At the Columbus/Bladen County boundary | None | •24
Big Branch | At the confluence with Livingston Creek | None | •24 | Columbus County (Unincorporated Areas).
| Approximately 1.2 miles upstream of the confluence with Bay Branch | None | •44
Boggy Branch | At the confluence with Livingston Creek | None | •36 | Columbus County (Unincorporated Areas).
| Approximately 700 feet upstream of the confluence with Chapel Creek | None | •50
Cape Fear River | At the Columbus/Brunswick County boundary | None | •16 | Columbus County (Unincorporated Areas).
| At the Columbus/Bladen County boundary | None | •23
Chapel Creek | At the confluence with Boggy Branch | None | •50 | Columbus County (Unincorporated Areas).
| Approximately 0.8 mile upstream of Connor Road | None | •60
Dans Creek | At the confluence with Livingston Creek | None | •29 | Columbus County (Unincorporated Areas).
| Approximately 2.2 miles upstream of Byrdville Freeman Road | None | •49
Double Branch | At the confluence with Cape Fear River | None | •21 | Columbus County (Unincorporated Areas).
| Approximately 1.6 miles upstream of the confluence with Cape Fear River | None | •23
Johns Branch | At the confluence with Livingston Creek | None | •30 | Columbus County (Unincorporated Areas).
| Approximately 1.1 miles upstream of Reaves Road | None | •57
Livingston Creek | At the confluence with Cape Fear River | None | •18 | Columbus County (Unincorporated Areas).
| Approximately 100 feet downstream of the Columbus/Brunswick County boundary | None | •59
Lynch Creek | At the confluence with Livingston Creek | None | •18 | Columbus County (Unincorporated Areas).
| Approximately 1.4 miles upstream of Cronly Road | None | •49
Mill Branch | At the confluence with Big Branch | None | •25 | Columbus County (Unincorporated Areas).
| Approximately 0.7 mile upstream of the confluence with Big Branch | None | •34
Mill Creek | At the confluence with Dans Creek | None | •33 | Columbus County (Unincorporated Areas).
| Approximately 1.3 miles upstream of Andrew Jackson Highway East | None | •61
Mill Creek 2 | At the confluence with Livingston Creek | None | •18 | Columbus County (Unincorporated Areas).
| At the Columbus/Brunswick County boundary | None | •20
Mill Creek Tributary 1 | At the confluence with Mill Creek | None | •47 | Columbus County (Unincorporated Areas).
| Approximately 1.6 miles upstream of the confluence with Mill Creek Tributary 3 | None | •63
Mill Creek Tributary 2 | At the confluence with Mill Creek Tributary 1 | None | •52 | Columbus County (Unincorporated Areas).
| Approximately 0.5 mile upstream of the confluence with Mill Creek Tributary 1 | None | •58
Mill Creek Tributary 3 | At the confluence with Mill Creek Tributary 1 Road | None | •56 | Columbus County (Unincorporated Areas).
| Approximately 0.5 mile upstream of confluence with Mill Creek Tributary 1 | None | •60
Poplar Branch | At the confluence with Livingston Creek | None | •38 | Columbus County (Unincorporated Areas).
| Approximately 1.6 miles upstream of Livingston Chapel Road | None | 62
Scott Branch | At the confluence with Livingston Creek | None | •38 | Columbus County (Unincorporated Areas).
| Approximately 0.1 mile downstream of Delco Prosper Road | None | •52
Tailor Branch | At the confluence with Johns Branch | None | •35 | Columbus County (Unincorporated Areas).
| Approximately 0.7 mile upstream of Ashford Malpass Lane | None | •62
Turkeypen Branch | At the confluence with Weymans Creek | None | •26 | Town of Sandyfield.
| At the Columbus/Bladen County boundary | None | •44
Turner Branch | At the confluence with Weymans Creek | None | •22 | Columbus County (Unincorporated Areas).
| At the confluence with Turner Branch Tributary | None | •29
Turner Branch Tributary | At the confluence with Turner Branch | None | •29 | Columbus County (Unincorporated Areas).
| Approximately 0.2 mile downstream of Old Lake Road | None | •39
Weyman Creek | At the confluence with Cape Fear River | None | •22 | Columbus County (Unincorporated Areas), Town of Sandyfield.
| Approximately 0.2 mile downstream of Old Lake Road | None | •46
Gapway Creek | At the confluence with Livingston Creek | None | •45 | Columbus County (Unincorporated Areas).
| At the Columbus/Brunswick County boundary | None | •45
Columbus County (Unincorporated Areas)
Maps available for inspection at the Columbus County Tax Office, 110 Courthouse Square, Whiteville, North Carolina.
Send comments to Mr. Billy Joe Farmer, Columbus County Manager, 111 Washington Street, Whiteville, North Carolina 28472.
Town of Sandyfield
Maps available for inspection at the Sandyfield Town Hall, 1795 Woodyard Road, Riegelwood, North Carolina.
Send comments to The Honorable Perry Dixon, Mayor of the Town of Sandyfield, P.O. Box 907, Riegelwood, North Carolina 28456.
NORTH CAROLINA
Moore County
Bear Creek | At the confluence with Deep River | None | •320 | Moore County (Unincorporated Areas).
| Approximately 100 feet downstream of Adams Road | None | •461 |
Beaver Creek (into Crane Creek) | At the confluence with Crane Creek | None | •234 | Moore County (Unincorporated Areas).
| At the Moore/Lee County boundary | None | •307 |
Big Governors Creek | At the confluence with Deep Creek | None | •258 | Moore County (Unincorporated Areas).
| At the confluence with Big Governors Creek Tributary | None | •304 |
Big Governors Creek Tributary | At the confluence with Big Governors Creek | None | •304 | Moore County (Unincorporated Areas).
| Approximately 0.6 mile upstream of Torchwood Road | None | •326 |
Big Juniper Creek | At the confluence with McLendons Creek | None | •320 | Moore County (Unincorporated Areas).
| Approximately 1,200 feet upstream of Longleaf Lake Dam | None | •555 |
Board Branch | At the confluence with Joe's Fork | None | •368 | Moore County (Unincorporated Areas), Village of Pinehurst.
| Approximately 1,300 feet upstream of Yadkin Road (State Route 211) | None | •456 |
Buffalo Creek (Hoke) | At the confluence with Little River | None | •186 | Moore County (Unincorporated Areas).
| At the Moore/Harnett County boundary | None | •218 |
Buffalo Creek (Moore) | At the confluence with Deep River | None | •288 | Moore County (Unincorporated Areas).
| Approximately 3.8 miles upstream of State Highway 24 | None | •502 |
Buffalo Creek Tributary 1 | At the confluence with Buffalo Creek (Hoke) | None | •194 | Moore County (Unincorporated Areas).
| Approximately 1,400 feet upstream of Marks Road | None | •337 |
Cabin Creek | Approximately 200 feet upstream of the confluence with Bear Creek | None | •361 | Moore County (Unincorporated Areas), Town of Robbins.
| At the Moore/Montgomery County boundary | None | •487 |
Carrolls Branch | At the confluence with James Creek | None | •252 | Moore County (Unincorporated Areas), Town of Southern Pines.
| Approximately 4.3 miles upstream of Youngs Road | None | •365 |
Cotton Creek | At the confluence with Cabin Creek | None | •449 | Moore County (Unincorporated Areas).
| At the Moore/Montgomery County boundary | None | •482 |
Crane Creek | At the confluence with Little River | None | •228 | Moore County (Unincorporated Areas), Town of Carthage.
| Approximately 500 feet upstream of State Highway 24 | None | •369 |
Crawley Creek | At the confluence with Big Governors Creek | •203 | •194 | Moore County (Unincorporated Areas).
| Approximately 800 feet upstream of Old River Road | None | •318 |
Crawley Creek Tributary 1 | At the confluence with Crawley Creek | None | •289 | Moore County (Unincorporated Areas).
| Approximately 0.7 mile upstream of the confluence with Crawley Creek | None | •298 |
Crawley Creek Tributary 2 | At the confluence with Crawley Creek | None | •289 | Moore County (Unincorporated Areas).
| Approximately 1.0 mile upstream of the confluence with Crawley Creek | None | •307 |
Approximately 500 feet upstream of Cypress Creek | Just upstream of Loblolly Drive | None | •228 | Moore County (Unincorporated Areas).
| At the Moore/Harnett County boundary | None | •228 |
Deep River | At the Moore/Chatham County boundary | None | •252 | Moore County (Unincorporated Areas).
| At the Moore/Randolph County boundary | None | •352 |
Deep River Tributary 4 | At the confluence with Deep River | None | •265 | Moore County (Unincorporated Areas).
| Approximately 1.0 mile upstream of the confluence with Deep River | None | •267 |
Deep River Tributary 5 | At the confluence with Deep River | None | •265 | Moore County (Unincorporated Areas).
| Approximately 0.5 mile upstream of Rascob Road | None | •265 |
Dry Creek | At the confluence with Cabin Creek | None | •369 | Moore County (Unincorporated Areas).
| Approximately 5.1 miles upstream of State Highway 24 | None | •533 |
Dunham Creek | At the confluence with Crane Creek | None | •327 | Moore County (Unincorporated Areas).
| Approximately 0.9 mile upstream of Farm Life School Road | None | •354 |
Glade Branch | At the confluence with McLendons Creek | None | •263 | Moore County (Unincorporated Areas).
| Approximately 0.8 mile upstream of Kelly Plantation Road | None | •274 |
Grassy Creek | At the confluence with Deep River | None | •335 | Moore County (Unincorporated Areas).
| Approximately 400 feet upstream of L. Moore Road | None | •544 |
Hector Creek | Just upstream of the confluence with Little River | None | •178 | Moore County (Unincorporated Areas).
| At the Moore/Harnett/Cumberland County boundaries | None | •194 |
Herds Creek | At the confluence with Crane Creek | None | •278 | Moore County (Unincorporated Areas).
| Approximately 1.1 mile upstream of Red Hill Road | None | •357 |
Horse Creek (Moore) | At the confluence with Dry Creek | None | •393 | Moore County (Unincorporated Areas).
| Approximately 1.9 miles upstream of Alex Road | None | •474 |
James Creek | At the confluence with Little River | None | •209 | Moore County (Unincorporated Areas), Town of Southern Pines.
| Approximately 0.4 mile upstream of Den Road | None | •526 |
Joes Fork | At the confluence of Nicks Creek | None | •343 | Moore County (Unincorporated Areas), Town of Taylortown, Village of Pinehurst.
| Just downstream of Stoneykirk Drive | None | •430 |
Juniper Branch | At the confluence with Nicks Creek | None | •324 | Town of Carthage, Town of Southern Pines.
| Approximately 1.2 miles upstream of Meyer Farm Road | None | •437 |
Juniper Branch Tributary | At the confluence with Juniper Branch | None | •344 | Town of Southern Pines.
| Approximately 1.0 mile upstream of the confluence with Juniper Branch | None | •401 |
Lick Creek | At the confluence with Scotchman Creek | None | •286 | Moore County (Unincorporated Areas).
| Approximately 1.0 mile upstream of Putnam Church Road | None | •356 |
Line Creek | At the confluence with Deep River | None | •252 | Moore County (Unincorporated Areas).
| Approximately 0.5 mile upstream of Alston House Road | None | •252 |
Little Crane Creek | At the confluence with Little Crane Creek | None | •259 | Moore County (Unincorporated Areas), Town of Cameron.
| At the Moore/Lee County boundary | None | •317 |
Little Crane Creek Tributary | At the confluence with Little Crane Creek | None | •304 | Town of Cameron.
| At the Moore/Lee County boundary | None | •317 |
Little Creek (into Crane Creek) | Approximately 700 feet upstream of the confluence with Crane Creek | None | •206 | Moore County (Unincorporated Areas).
| Approximately 1,100 feet upstream of Summer Creek Tributary | None | •275 |
Little Creek (Moore) | At the confluence with McLendons Creek | None | •280 | Moore County (Unincorporated Areas).
| Approximately 0.4 mile upstream of Old Glendon Road | None | •297 |
Little Creek Tributary | At the confluence with Little Creek | None | •233 | Moore County (Unincorporated Areas).
| Approximately 1.1 miles upstream of the confluence with Little Creek on to Crane Creek | None | •316 |
Little Governors Creek | At the confluence with Big Governors Creek | None | •258 | Moore County (Unincorporated Areas).
| Approximately 8.3 miles upstream of the confluence with Big Governors Creek | None | •360 |
Little River | At the confluence with Hector Creek | None | •178 | Moore County (Unincorporated Areas), Town of Vass.
| Approximately 1.1 miles upstream of Beulah Hill Church Road | None | •413 |
McDeeds Creek | At the confluence with Mill Creek (into Little River) | None | •276 | Town of Southern Pines.
| Approximately 100 feet upstream of West New Hampshire Avenue | None | •394 |
McIntosh Creek | At the confluence with Big Governors Creek | None | •266 | Moore County (Unincorporated Areas).
| Approximately 0.4 mile upstream of Old River Road | None | •376 |
McIntosh Creek Tributary | At the confluence with McIntosh Creek | None | •269 | Moore County (Unincorporated Areas).
| Approximately 0.8 mile upstream of the confluence with McIntosh Creek | None | •281 |
McLendons Creek | At the confluence with Deep River | None | •263 | Moore County (Unincorporated Areas).
| Approximately 1.6 miles upstream of the confluence with McLendons Creek Tributary 3 | None | •603 |
McLendons Creek Tributary 1 | At the confluence with McLendons Creek | None | •274 | Moore County (Unincorporated Areas).
| Approximately 1.5 miles upstream of Old Glendon Road | None | •292 |
McLendons Creek Tributary 2 | At the confluence with McLendons Creek | None | •399 | Moore County (Unincorporated Areas).
| Approximately 1.9 miles upstream of the confluence with McLendons Creek | None | •491 |
McLendons Creek Tributary 3 | At the confluence with McLendons Creek | None | •453 | Moore County (Unincorporated Areas).
| Approximately 1.4 miles upstream of the confluence with McLendons Creek | None | •597 |
Meadow Creek | At the confluence with Buffalo Creek | None | •400 | Moore County (Unincorporated Areas).
| Approximately 1,400 feet upstream of State Highway 24 | None | •462 |
Mill Creek (into Cabin Creek) | At the confluence with Cabin Creek | None | •411 | Moore County (Unincorporated Areas).
| Approximately 700 feet upstream of the confluence with Mill Creek Tributary | None | •547 |
Mill Creek (into James Creek) | At the confluence with James Creek | None | •314 | Town of Southern Pines.
| Approximately 1.5 miles upstream of the confluence with James Creek | None | •364 |
Mill Creek (into Little River) | At the confluence with Little River | None | •252 | Moore County (Unincorporated Areas), Towns of Vass, Southern Pines, Village of Whispering Pines.
| Approximately 0.4 mile upstream of State Highway 22 | None | •360 |
New Lake | At the confluence with McLendons Creek | None | •422 | Moore County (Unincorporated Areas).
| Approximately 1.4 miles upstream of Holly Grove School Road | None | •537 |
New Lake Tributary | At the confluence with New Lake | None | •434 | Moore County (Unincorporated Areas).
| Approximately 1.3 miles upstream of the confluence with New Lake | None | •565 |
Nicks Creek | Approximately 250 feet upstream of the confluence with Little River | None | •302 | Moore County (Unincorporated Areas), Town of Southern Pines, Village of Whispering Pines.
| Approximately 2.3 miles upstream of Beulah Hill Church Road | None | •420 |
Nicks Creek Tributary | At the confluence with Nicks Creek | None | •342 | Moore County (Unincorporated Areas) Village of Pinehurst.
| Approximately 0.4 mile upstream of Juniper Creek Boulevard | None | •437 |
Parkwood Branch | At the confluence with Richland Creek | None | •279 | Moore County (Unincorporated Areas).
| Approximately 1.5 miles upstream of the confluence with Richland Creek | None | 304 |
Rattlesnake Creek | At the confluence with Joes Fork | None | •356 | Moore County (Unincorporated Areas), Village of Pinehurst.
| Approximately 1,500 feet upstream of Longleaf Drive East | None | •446 |
Richland Creek | At the confluence with McLendons Creek | None | •263 | Moore County (Unincorporated Areas).
| Approximately 4.4 miles upstream of J. Dowdy Road | None | •361 |
Scotchman Creek | At the confluence with Deep Creek | None | •286 | Moore County (Unincorporated Areas).
| Approximately 500 feet upstream of State Highway 22 | None | •335 |
Seven Lakes North | At the confluence with Big Juniper Creek | None | •513 | Moore County (Unincorporated Areas).
| Approximately 1,500 feet upstream of Edgewater Drive | None | •579
Seven Lakes South | At the confluence with Big Juniper Creek | None | •451 | Moore County (Unincorporated Areas).
| Approximately 1,600 feet upstream of Cardinal Lane | None | •525 |
Simlin Creek | Just upstream of the confluence with Bear Creek | None | •360 | Moore County (Unincorporated Areas), Town of Robbins.
| Approximately 1.2 miles upstream of Trail Ridge Road | None | •375 |
Sings Creek | At the confluence with Wet Creek | None | •440 | Moore County (Unincorporated Areas).
| Approximately 0.4 mile upstream of Bensalem Church Road | None | •529 |
Suck Creek | At the confluence with McLendons Creek | None | •333 | Moore County (Unincorporated Areas).
| Approximately 100 feet upstream of Mount Carmel Road | None | •360 |
Toms Creek | At the confluence with Richland Creek | None | •263 | Moore County (Unincorporated Areas).
| Approximately 1.2 miles upstream of the confluence with Richland Creek | None | •289 |
Tributary to McLendons Creek Tributary 1 | At the confluence with McLendons Creek Tributary 1 | None | •276 | Moore County (Unincorporated Areas).
| Approximately 0.4 mile upstream of Brady Road | None | •290 |
Tributary to McLendons Creek Tributary 2 | At the confluence with McLendons Creek Tributary 2 | None | •415 | Moore County (Unincorporated Areas).
| Approximately 0.9 mile upstream of the confluence with McLendons Creek Tributary 2 | None | •455 |
Turkey Creek | At the confluence with Little River | None | •184 | Moore County (Unincorporated Areas).
| Approximately 1.3 miles upstream of the confluence with Little River | None | •221
Tysons Creek | At the confluence with Deep River | None | •273 | Moore County (Unincorporated Areas).
| At the Moore/Lee County boundary | None | •320 |
Wads Creek | Approximately 0.4 mile upstream of Little River Farm Boulevard | None | •325 | Moore County (Unincorporated Areas).
| Approximately 0.6 mile upstream of Murdocksville Road | None | •404 |
Wet Creek | At the confluence with Cabin Creek | None | •373 | Moore County (Unincorporated Areas).
| Approximately 0.4 mile upstream of Skill Road | None | •559 |
Wildcat Branch | At the confluence with Beaver Creek | None | •297 | Moore County (Unincorporated Areas).
| At the Moore/Chatham County boundary | None | •297 |
Williams Creek | At the confluence with Bear Creek | None | •419 | Moore County (Unincorporated Areas).
| Approximately 0.9 mile upstream of Willie Road | None | •474 |
Wolf Creek | At the confluence with Bear Creek | None | •386 | Moore County (Unincorporated Areas).
| At the Moore/Montgomery County boundary | None | •518 |
Lick Creek (into Deep River) | At the confluence with Deep River | None | •263 | Moore County (Unincorporated Areas).
| Approximately 300 feet upstream of Glendon-Carthage Road | None | •266 |
Mill Creek Tributary | At the confluence with Mill Creek (into Cabin Creek) | None | •547 | Moore County (Unincorporated Areas).
| Approximately 0.7 mile upstream of the confluence with Mill Creek (into Cabin Creek) | None | •576
Town of Cameron
Maps available for inspection at the Cameron Town Clerk's Office, 247 Carter Street, Cameron, North Carolina.
Send Comments to The Honorable George Womble, Mayor of the Town of Cameron, P.O. Box 248, Cameron, North Carolina 28326.
Town of Carthage
Maps available for inspection at the Carthage Town Clerk's Office, 4396 Highway 15-501, Carthage, North Carolina.
Send comments to Ms. Carol Cleetwood, Carthage Town Manager, 4396 Highway 15-501, Carthage, North Carolina 28327.
Moore County (Unincorporated Areas)
Maps available for inspection at the Moore County Planning Office, 101A Monroe Street, Courthouse Square, Carthage, North Carolina.
Send comments to Mr. Steve Wyatt, Moore County Manager, Courthouse Square, P.O. Box 905, Carthage, North Carolina 28327.
Village of Pinehurst
Maps available for inspection at the Village of Pinehurst Planning Office, 395 Magnolia Road, Pinehurst, North Carolina.
Send comments to Mr. Andrew Wilkison, Pinehurst Village Manager, 395 Magnolia Road, Pinehurst, North Carolina 28374.
Town of Robbins
Maps available for inspection at the Robbins Town Hall, 101 North Middleton Street, Robbins, North Carolina.
Send comments to Mr. Mickey Brown, Robbins Town Manager, 101 North Middleton Street, Robbins, North Carolina 27325.
Town of Southern Pines
Maps available for inspection at the Southern Pines Planning Department, 180 Southwest Broad Street, Southern Pines, North Carolina.
Send comments to Ms. Reagan Parsons, Southern Pines Town Manager, 125 SE Broad Street, Southern Pines, North Carolina 28387.
Town of Taylortown
Maps available for inspection at the Taylortown Town Hall, 8350 Main Street, Pinehurst, North Carolina.
Send comments to The Honorable Ulysses Barrett, Jr., Mayor of the Town of Taylortown, P.O. Box 1274, Pinehurst, North Carolina 28370.
Town of Vass
Maps available for inspection at the Vass Town Clerk's Office, 140 South Alma Street, Vass, North Carolina 28394.
Send comments to The Honorable Henry Callahan, Jr., Mayor of the Town of Vass, P.O. Box 487, Vass, North Carolina 28394.
Village of Whispering Pines
Maps available for inspection at the Whispering Pines Village Hall, 10 Pine Ridge Drive, Whispering Pines, North Carolina.
Send comments to The Honorable Giles Hopkins, Mayor of the Village of Whispering Pines, 10 Pine Ridge Drive, Whispering Pines, North Carolina 28327.
NORTH CAROLINA
Pender County
Burgaw Creek | At the confluence with Northeast Cape Fear River | None | •14 | Pender County (Unincorporated Areas), Town of Burgaw.
| Approximately 400 feet downstream of West Wilmington Street | •49 | •50
Colvins Creek | At the confluence with Black River | None | •14 | Pender County (Unincorporated Areas).
| Approximately 0.8 mile upstream of Beattys Bridge Road | None | •70
Rileys Creek | At the confluence with Long Creek | •8 | •9 | Pender County (Unincorporated Areas).
| At the confluence with Mill Creek and Rizzo Creek | None | •27
Angola Creek | At the confluence with Holly Shelter Creek | None | •20 | Pender County (Unincorporated Areas).
| Approximately 0.2 mile downstream of the Pender/Duplin County boundary | None | •31
Angola Creek Tributary 3 | At the confluence with Angola Creek | None | •23 | Pender County (Unincorporated Areas).
| Approximately 500 feet upstream of Cypress Creek Road | None | •33
Angola Creek Tributary | At the confluence with Angola Creek | None | •26 | Pender County (Unincorporated Areas).
| Approximately 1.4 miles upstream of NC Highway 50 | None | •42 |
Ashes Creek | At the confluence with Northeast Cape Fear River | None | •17 | Pender County (Unincorporated Areas).
| Approximately 1.5 miles upstream of Southwest Lake | None | •35 |
Bear Branch | At the confluence with Black River | None | •16 | Pender County (Unincorporated Areas).
| Approximately 2,000 feet upstream of Blueberry Road | None | •28 |
Beckys Creek | Approximately 1.1 miles upstream of the Intracoastal Waterway | None | •8 | Pender County (Unincorporated Areas).
| Approximately 1.0 mile upstream of State Route 210 | None | •29 |
Bee Branch | At the confluence with Cypress Creek (near Wards Corner) | None | •45 | Pender County (Unincorporated Areas).
| Approximately 350 feet upstream of Shiloh Road | None | •55 |
Big Branch | At the confluence with Colvins Creek | None | •14 | Pender County (Unincorporated Areas).
| Approximately 875 feet upstream of the confluence with Big Branch Tributary | None | •24 |
Big Branch Tributary | At the confluence with Big Branch | None | •23 | Pender County (Unincorporated Areas).
| Approximately 0.37 mile upstream of the confluence with Big Branch | None | •33 |
Black River | At the confluence with Cape Fear River | None | •9 | Pender County (Unincorporated Areas).
| Approximately 350 feet downstream of Beattys Bridge Road | None | •24 |
Cape Fear River | At the confluence with Black River | None | •9 | Pender County (Unincorporated Areas).
| At the Bladen/Pender County boundary | None | •23 |
Catskin Creek | At the confluence with Merricks and Players Creek | None | •9 | Pender County (Unincorporated Areas).
| Approximately 6.6 miles upstream of the confluence with Merricks and Players Creek | None | •34 |
Colvins Creek Tributary | At the confluence with Colvins Creek | None | •25 | Pender County (Unincorporated Areas).
| Approximately 0.5 mile upstream of Slocum Trail | None | •44 |
Cypress Creek (near Stag Park) | At the confluence with Northeast Cape Fear River | None | •13 | Pender County (Unincorporated Areas), Village of Saint Helena.
| Approximately 800 feet upstream of Front Street | None | •57 |
Cypress Creek (near Wards Corner) | At the confluence with Long Creek | None | •25 | Pender County (Unincorporated Areas).
| Approximately 0.5 mile upstream of Shiloh Road | None | •53 |
Doctors Creek | At the confluence with Rockfish Creek | None | •39 | Pender County (Unincorporated Areas).
| Approximately 0.25 mile upstream of Katie Ford Road | None | •51 |
Dry Branch | Approximately 20 feet upstream of NC Highway 421 | None | •51 | Pender County (Unincorporated Areas).
| Approximately 1.5 miles upstream of NC Highway 421 | None | •55 |
Godfrey Creek | At the confluence with Harrisons Creek | None | •16 | Pender County (Unincorporated Areas).
| Approximately 2.1 miles upstream of the confluence with Harrisons Creek | None | •32 |
Guffords Branch | At the confluence with Rileys Creek | None | •10 | Pender County (Unincorporated Areas).
| Just downstream of Highway 210 | None | •11 |
Harrisons Creek | At State Route 210 | None | •8 | Pender County (Unincorporated Areas).
| Approximately 300 feet upstream of Holiday Drive | None | •29 |
Holly Shelter Creek | At the confluence with Northeast Cape Fear River | None | •17 | Pender County (Unincorporated Areas).
| At the Pender/Onslow County boundary | None | •37 |
Island Creek Tributary | Approximately 0.4 mile upstream of the confluence with Island Creek | None | •9 | Pender County (Unincorporated Areas).
| Approximately 2.8 miles upstream of the confluence with Island Creek | None | •27 |
Juniper Swamp | At the confluence with Shaken Creek | None | •34 | Pender County (Unincorporated Areas).
| Approximately 1.5 miles upstream of the confluence with Shaken Creek | None | •36 |
Kellys Creek | At the confluence with Rileys Creek | None | •25 | Pender County (Unincorporated Areas).
| Approximately 200 feet upstream of Little Kelly Road | None | •29 |
Lillington Creek | At the confluence with Northeast Cape Fear River | None | •11 | Pender County (Unincorporated Areas).
| Approximately 2.7 miles upstream of Shaw Highway | None | •29 |
Long Creek | Approximately 3.5 miles upstream of the confluence with Northeast Cape Fear River | None | •7 | Pender County (Unincorporated Areas).
| At NC Highway 53 | •30 | •31 |
Lillington Creek Tributary | At the confluence with Lillington Creek | None | •13 | Pender County (Unincorporated Areas).
| Approximately 0.9 mile upstream of Vogler Drive | None | •17 |
Long Creek Tributary | At the confluence with Long Creek | None | •26 | Pender County (Unincorporated Areas).
| Approximately 0.3 mile upstream of the confluence with Long Creek | None | •30 |
Lewis Creek | Approximately 1,500 feet upstream of the confluence with Northeast Cape Fear River | •25 | •23 | Pender County (Unincorporated Areas).
| Approximately 600 feet downstream of U.S. Highway 117 | •25 | •24 |
Merricks Creek | At State Route 210 | None | •8 | Pender County (Unincorporated Areas).
| At the confluence with Catskin Creek | None | •9 |
Mill Creek | At the confluence with Rileys Creek | None | •27 | Pender County (Unincorporated Areas).
| Approximately 200 feet upstream of Highsmith Road | None | •30 |
Mill Pond | At the confluence with Holly Shelter Creek | None | •18 | Pender County (Unincorporated Areas).
| Approximately 1.5 miles upstream of Highway 53 | None | •18 |
Moores Creek | At the confluence with Holly Shelter Creek | None | •27 | Pender County (Unincorporated Areas).
| At the Pender/Onslow County boundary | None | •42 |
Moores Creek (near Atkinson) | Approximately 1.2 miles upstream of Highway 210 | None | •16 | Pender County (Unincorporated Areas).
| Approximately 0.3 mile downstream of John Henry Store Road | None | •19 |
Moores Creek Tributary 1 | At the confluence with Moores Creek | None | •32 | Pender County (Unincorporated Areas).
| At the Pender/Onslow County boundary | None | •51 |
Moores Creek Tributary 2 | At the confluence with Moores Creek | None | •39 | Pender County (Unincorporated Areas).
| At the Pender/Onslow County boundary | None | •46 |
Moores Creek Tributary 6 | At the confluence with Moores Creek | None | •37 | Pender County (Unincorporated Areas).
| Approximately 200 feet downstream of the Pender/Duplin County boundary | None | •50 |
Moores Creek Tributary 7 | At the confluence with Moores Creek Tributary 6 | None | •42 | Pender County (Unincorporated Areas).
| Approximately 1.0 mile upstream of Cypress Creek Road | None | •74 |
Northeast Cape Fear River | At the upstream side of State Route 210 | None | •8 | Pender County (Unincorporated Areas).
| At the Pender/Duplin County boundary | None | •26 |
Pike Creek | At the confluence with Northeast Cape Fear River | None | •10 | Pender County (Unincorporated Areas).
| Approximately 2.1 miles upstream of Interstate 40 | None | •34 |
Players Creek | At the confluence with Merricks Creek | None | •9 | Pender County (Unincorporated Areas).
| Approximately 2.5 miles upstream of the confluence with Merricks Creek | None | •25 |
Rizzo Creek | At the confluence with Rileys Creek | None | •27 | Pender County (Unincorporated Areas).
| Approximately 0.5 mile upstream of the confluence with Rileys Creek | None | •29 |
Rockfish Creek | At the confluence with Northeast Cape Fear River | •19 | •26 | Pender County (Unincorporated Areas).
| At the confluence with Doctors Creek | None | •39 |
Sandy Run Swamp | At the confluence with Holly Shelter Creek | None | •21 | Pender County (Unincorporated Areas).
| At the Pender/Onslow County boundary | None | •29 |
Sawyer Creek | At the confluence with Sills Creek | None | •29 | Pender County (Unincorporated Areas).
| Approximately 125 feet downstream of Highway 11 | None | •42 |
Shaken Creek | At the confluence with Holly Shelter Creek | None | •18 | Pender County (Unincorporated Areas).
| Approximately 0.3 mile downstream of the Pender/Onslow County boundary | None | •34 |
Shelter Swamp Creek | At the confluence with Sandy Run Swamp | None | •25 | Pender County (Unincorporated Areas).
| At the Onslow/Pender County boundary | None | •33 |
Sills Creek | At the confluence with Sawyer Creek | None | •29 | Pender County (Unincorporated Areas).
| Approximately 600 feet downstream of Old Mill Road | None | 33 |
Trumpeter Swamp | At the confluence with Catskin Creek | None | •16 | Pender County (Unincorporated Areas).
| Approximately 1.2 miles upstream of J. A. Drive | None | •42 |
Turkey Creek | At the upstream side of State Route 133 | None | •8 | Pender County (Unincorporated Areas).
| Approximately 2.3 miles upstream of State Route 133 | None | •22 |
Turkey Creek Tributary | At the confluence with Turkey Creek | None | •11 | Pender County (Unincorporated Areas).
| Approximately 850 feet upstream of Arvida Spur Road | None | •28 |
Washington Creek | At the confluence with Northeast Cape Fear River | None | •25 | Pender County (Unincorporated Areas).
| Approximately 0.7 mile upstream of Interstate 40 | None | •27 |
Washington Creek Tributary | At the confluence with Washington Creek | None | •27 | Pender County (Unincorporated Areas).
| Approximately 0.7 mile upstream of the confluence with Washington Creek | None | •43 |
White Oak Branch | At the confluence with Tuckahoe Branch | •41 | •43 | Pender County (Unincorporated Areas).
| Approximately 0.6 mile downstream of Shiloh Road | None | •53 |
Jones Creek | At the confluence with Colvins Creek | •41 | •38 | Pender County (Unincorporated Areas).
| Approximately 1.0 mile upstream of Beattys Bridge Road | None | •72 |
City of Burgaw
Maps available for inspection at the Burgaw City Hall, 109 North Walker Street, Burgaw, North Carolina.
Send comments to The Honorable Kenneth Cowan, Mayor of the City of Burgaw, 109 North Walker Street, Burgaw, North Carolina 28425.
Pender County (Unincorporated Areas)
Maps available for inspection at the Pender County Planning Department, 805 South Walker Street, Burgaw, North Carolina.
Send comments to Mr. John Bauer, Pender County Manager, 807 South Walker Street, P.O. Box 5, Burgaw, North Carolina 28425.
Village of Saint Helena
Maps available for inspection at the Saint Helena Village Hall, 330 Main Street, Burgaw, North Carolina.
Send comments to The Honorable Robert Barnhill, Mayor of the Village of Saint Helena, 115 Northwest Avenue, Burgaw, North Carolina 28425.
NORTH CAROLINA
Rockingham County
Troublesome Creek | At the confluence with Haw River | None | •661 | Rockingham County (Unincorporated Areas), City of Reidsville.
| At Monroeton Road | None | •707 |
Benaja Creek | At the confluence with Haw River | None | •665 | Rockingham County (Unincorporated Areas).
| At the Guilford/Rockingham County boundary | None | •688 |
Candy Creek | At the confluence with Haw River | None | •663 | Rockingham County (Unincorporated Areas).
| Approximately 200 feet downstream of Guilford/Rockingham County boundary | None | •700 |
Giles Creek | At the confluence with Haw River | None | •650 | Rockingham County (Unincorporated Areas).
| Approximately 950 feet upstream of State Route 87 | None | •688 |
Haw River | At the Guilford/Rockingham County boundary | None | •642 | Rockingham County (Unincorporated Areas).
| At the Guilford/Rockingham County boundary | None | •731 |
Haw River Tributary 16 | At the confluence with Haw River | None | •644 | Rockingham County (Unincorporated Areas).
| Approximately 1.3 miles upstream of Kernodle Road | None | •664 |
Haw River Tributary 17 | At the confluence with Haw River | None | •691 | Rockingham County (Unincorporated Areas).
| Approximately 0.6 mile upstream of the confluence of Haw River | None | •713 |
Haw River Tributary 18 | At the confluence with Haw River Tributary 17 | None | •691 | Rockingham County (Unincorporated Areas).
| Approximately 0.5 mile upstream of the confluence with Haw River Tributary 17 | None | 721 |
Little Troublesome Creek | At the confluence with Haw River | None | •657 | Rockingham County (Unincorporated Areas), City of Reidsville.
| Approximately 1,000 feet upstream of Freeway Drive | None | •790 |
Rose Creek | At the confluence with Haw River | None | •657 | Rockingham County (Unincorporated Areas).
| At the Guilford/Rockingham County boundary | None | •679 |
Tributary A to Little Troublesome Creek | Approximately 40 feet downstream of Forsyth Street | None | •753 | City of Reidsville.
| Approximately 700 feet upstream of Forsyth Street | None | •760 |
Tributary B to Little Troublesome Creek | Approximately 100 feet downstream of Cypress Drive | None | •728 | City of Reidsville.
| Approximately 0.8 mile upstream of Cypress Drive | None | •787 |
Tributary C to Little Troublesome Creek | Approximately 475 feet downstream of Summit Avenue | None | •755 | City of Reidsville.
| Approximately 25 feet downstream of Redmont Street | None | •807 |
Troublesome Creek Tributary 1 | At the confluence with Lake Reidsville and Troublesome Creek | None | •695 | Rockingham County (Unincorporated Areas), City of Reidsville.
| Approximately 1.7 miles upstream of the confluence with Troublesome Creek | None | •762 |
Troublesome Creek Tributary 3 | At the confluence with Lake Reidsville and Troublesome Creek | None | •699 | Rockingham County (Unincorporated Areas), City of Reidsville.
| Approximately 1.6 miles upstream of Iron Works Road | None | •735 |
Troublesome Creek Tributary 2 | At the confluence with Lake Reidsville and Troublesome Creek | None | •695 | Rockingham County (Unincorporated Areas), City of Reidsville.
| Approximately 1.0 mile upstream of McCoy Road | None | •794 |
Troublesome Creek Tributary 4 | At the confluence with Troublesome Creek | None | •743 | Rockingham County (Unincorporated Areas).
| Approximately 0.9 mile upstream of Brown Road | None | •776 |
Troublesome Creek Tributary 5 | At the confluence with Troublesome Creek | None | •766 | Rockingham County (Unincorporated Areas).
| Approximately 1,650 feet upstream of Hudson Road | None | •807 |
Troublesome Creek Tributary 3A | At the confluence with Troublesome Creek Tributary 3 | None | •703 | Rockingham County (Unincorporated Areas), City of Reidsville.
| Approximately 2.1 miles upstream of Boyds Road | None | •758 |
City of Reidsville
Maps available for inspection at the Reidsville City Hall, 230 West Morehead Street, Reidsville, North Carolina.
Send comments to Mr. D. Kelly Almond, Reidsville City Manager, 230 West Morehead Street, Reidsville, North Carolina 27320.
Rockingham County (Unincorporated Areas)
Maps available for inspection at the Rockingham County Planning & Inspections Department, Governmental Complex, 371 Highway 65, Wentworth, North Carolina.
Send comments to Mr. Thomas Robinson, Rockingham County Manager, P.O. Box 206, Wentworth, North Carolina 27375.

(Catalog of Federal Domestic Assistance No. 83.100, “Flood Insurance.”)
Dated: July 7, 2005.
David I. Maurstad,
Acting Director, Mitigation Division, Emergency Preparedness and Response Directorate.

[FR Doc. 05-13926 Filed 7-14-05; 8:45 am]

BILLING CODE 9110-12-P